DEPARTMENT OF ENERGY

Federal Energy Regulatory Commission

[Docket No. RP02-355-000]

Central New York Oil And Gas Company, LLC; Notice of Tariff Filing

June 6, 2002.

Take notice that on June 3, 2002, Central New York Oil And Gas Company, LLC (CNYOG) tendered for filing and acceptance as part of its FERC Gas Tariff, Original Volume No. 1, the following revised tariff sheets to be effective July 3, 2002:

First Revised Sheet No. 101

First Revised Sheet No. 102

First Revised Sheet No. 103

Original Sheet No. 103A

CNYOG states that the purpose of its filing is to revise the creditworthiness provisions of its tariff and to add a provision to its tariff regarding limitation of liability.

CNYOG further states that it has served copies of this filing upon the company's jurisdictional customers and interested state commissions.

Any person desiring to be heard or to protest said filing should file a motion to intervene or a protest with the Federal Energy Regulatory Commission, 888 First Street, NE, Washington, DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Magalie R. Salas,
Secretary.

[FR Doc. 02-14892 Filed 6-12-02; 8:45 am]

BILLING CODE 6717-01-P